DEPARTMENT OF JUSTICE

Antitrust Division

Notice Pursuant to the National Cooperative Research and Production Act of 1993—National Biodiesel Accreditation Commission

Notice is hereby given that, on June 19, 2007, pursuant to Section 6(a) of the National Cooperative Research and Production Act of 1993, 15 U.S.C. 4301 et seq. (“the Act”), National Biodiesel Accreditation Commission (“NBAC”) has filed written notifications simultaneously with the Attorney General and the Federal Trade Commission disclosing additions or changes to its standards development activities. The notifications were filed for the purpose of extending the Act's provisions limiting the recovery of antitrust plaintiffs to actual damages under specified circumstances. Specifically, NBAC has amended its standard and its program including accompanying documents by making the standard applicable to eligible companies on a worldwide basis except where contraindicated by international law.

On August 27, 2004, NBAC filed its original notification pursuant to Section 6(a) of the Act. The Department of Justice published a notice in the Federal Register pursuant to Section 6(b) of the Act on October 4, 2004, (69 FR 59269).

The last notification was filed with the Department on January 3, 2007. A notice was published in the Federal Register pursuant to Section 6(b) of the Act on January 25, 2007 (72 FR 3416).

Patricia A. Brink,
Deputy Director of Operations, Antitrust Division.

[FR Doc. 07-4433 Filed 9-10-07; 8:45 am]

BILLING CODE 4410-11-M